CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR), entitled the Pilot for Volunteer Management ROI Measurement System, to the Office of Management and Budget (OMB) for review and approval in accordance with the Paperwork Reduction Act of 1995, Public Law 104-13, (44 U.S.C. Chapter 35). Copies of this ICR, with applicable supporting documentation, may be obtained by calling the Corporation for National and Community Service, Margie Legowski at (202) 606-6910. Individuals who use a telecommunications device for the deaf (TTY-TDD) may call (202) 606-3472 between 8:30 a.m. and 5 p.m. Eastern time, Monday through Friday.

ADDRESSES: Comments may be submitted, identified by the title of the information collection activity, to the Office of Information and Regulatory Affairs, Attn: Ms. Sharon Mar, OMB Desk Officer for the Corporation for National and Community Service, by any of the following two methods within 30 days from the date of publication in this Federal Register:

(1) By fax to: (202) 395-6974, Attention: Ms. Sharon Mar, OMB Desk Officer for the Corporation for National and Community Service; and

(2) Electronically by e-mail to: smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on November 23, 2009. This comment period ended January 22, 2010. We received one public comment, asking for a draft version of the data collection instrument and background material about the project. These were sent to the requestor on November 23, 2009.

Description: The Corporation is seeking approval of a pilot version of a tool designed to measure the return on investment for recruiting and managing community volunteers. The Corporation has entered into a cooperative agreement with the National Council on Aging (NCOA) to adapt its SMART (Strategic Metrics and Results Tracking) system for use by Corporation grantees and subgrantees. The goal is to develop and pilot a system that all Corporation projects can use to calculate the return on investment for the time and resources they devote to recruiting and managing volunteers.

Type of Review: New.

Agency: Corporation for National and Community Service.

Title: Pilot for Volunteer Management ROI Measurement System.

OMB Number: None.

Agency Number: None.

Affected Public: Selected recipients of CNCS program grants and subgrants.

Total Respondents: 50.

Frequency: Twice annually.

Average Time per Response: 4 hours.

Estimated Total Burden Hours: 400 hours.

Total Burden Cost (capital/startup): None.

Total Burden Cost (operating/maintenance): None.

Dated: April 21, 2010.
Susan Schechter,
Associate Director, Office of Leadership Development and Training.

[FR Doc. 2010-9643 Filed 4-23-10; 8:45 am]

BILLING CODE 6050-$$-P